DEPARTMENT OF COMMERCE

Minority Business Development Agency

[Docket No. 000724217-6008-11]

Amendment of Performance Incentives for Minority Business Enterprise Centers To Allow for a Third Bonus Year of Funding

AGENCY: Minority Business Development Agency.

ACTION: Notice.

SUMMARY: The Minority Business Development Agency (MBDA) publishes this notice to announce that it will allow for a third year of bonus funding, on a non-competitive basis, to the Houston Minority Business Enterprise Center (MBEC) (formally known as the Houston Minority Business Development Center (MBDC)), as originally funded under the Federal Register notice of August 28, 2000 (65 FR 52069). In its August 28, 2000 notice, MBDA solicited competitive applications from organizations to operate MBECs. The MBEC Program provides funding for general business assistance to minority business enterprises (MBEs) in various markets throughout the United States and stipulated that no award to operate a MBEC may be longer than five funding periods. MBDA changes this policy to allow for a third year of bonus funding for a total of six funding periods. This action is taken in light of the fact that the Houston MBEC (Grijalva and Allen) has had an “excellent” performance rating for five consecutive years. Furthermore, this action supports the Agency's efforts in rebuilding minority firms impacted by Hurricanes Rita and Katrina. The Houston MBEC non-competitively received additional funding in the amount of $300,000, specifically to assist the minority firms impacted by Hurricane Katrina, as it was the closest proximity to the Gulf Coast and able to immediately respond to the need for additional services. This is in addition to the amount of $400,375 for the continuation of general business assistance to MBEs in program year 2006.

DATES: The third bonus funding period, if approved by the Grants Officer, will commence January 1, 2006 and continue through December 31, 2006.

FOR FURTHER INFORMATION CONTACT: Mr. Efrain Gonzalez at (202) 482-1940.

SUPPLEMENTARY INFORMATION: Under Executive order 11625, the MBEC Program requires MBEC staff to provide general business assistance to minority-owned companies in various markets throughout the United States, and standardized business assistance services to “rapid growth potential” minority businesses (e.g., those generating $500,000 or more in annual revenues or capable of generating significant employment and long-term economic growth); to develop a network of strategic partnerships; to possibly charge client fees; and to provide strategic business consulting. These requirements are used to generate increased results with respect to financing and contracts awarded to minority-owned firms and thus, are a key component of this program.

MBDA is announcing the amendment of a prior Federal Register notice (65 FR 52069, August 28, 2000) published by MBDA which established that no award to operate a Minority Business Enterprise Center (MBEC) (formally known as Minority Business Development Centers (MBDC)) may be longer than five funding periods without competition, no matter what an MBEC's performance happens to be. Under the prior notice, performance incentives allowed MBECs to earn two bonus funding periods, in addition to the normal three funding periods, without competition based on an “excellent” performance rating, for a total of five funding periods. MBDA hereby amends the prior notice to allow for a third year of bonus funding on a non-competitive basis to eligible MBECs originally funded under the Federal Register notice of August 28, 2000, for a total of six funding periods.

This action is taken in light of the fact that the Houston MBEC (Grijalva and Allen) has maintained an “excellent” performance rating over the five year funding period. This MBEC is the only MBEC to have achieved an “excellent” performance rating in five consecutive program years and thus is the only recipient of the third bonus funding period. In addition, this award will allow the Houston MBEC to maintain continuity in level of services in light of the adverse economic impact and devastation caused by Hurricanes Rita and Katrina.

Such additional funding will be at the total discretion of MBDA. The Houston MBEC (Grijalva and Allen) will be eligible for a third bonus funding period (January 1, 2006-December 31, 2006) on a non-competitive basis.

The Houston MBEC will continue to concentrate on serving firms located in the Houston, Texas Metropolitan Statistical Area. This includes delivering relevant services to minority-owned firms impacted by Hurricanes Rita and Katrina and to displaced MBEs currently residing in the greater Houston, Texas area. The Houston MBEC program shall continue to leverage telecommunications technology, including the Internet, and a variety of online computer-based resources to dramatically increase the level of service that the MBEC can provide to minority-owned firms, including micro-enterprises.

Entrepreneurs eligible for assistance under the MBEC Program are African Americans, Puerto Ricans, Spanish-speaking Americans, Aleuts, Asian Pacific Americans, Asian Indians, Native Americans, Eskimos and Hasidic Jews.

Department of Commerce Pre-Award Notification Requirements for Grants and Cooperative Agreements

The Department of Commerce Pre-Award Notification Requirements for Grants and Cooperative Agreements contained in the Federal Register notice of December 30, 2004 (69 FR 78389), are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: January 20, 2006.
Ronald N. Langston,
National Director, Minority Business Development Agency.

[FR Doc. E6-892 Filed 1-24-06; 8:45 am]

BILLING CODE 3510-21-P